DEPARTMENT OF THE INTERIOR

Bureau of Safety and Environmental Enforcement

[Docket ID BSEE-2015-0001; OMB Control Number 1014-0021; 15XE1700DX EEEE500000 EX1SF0000.DAQ000]

Information Collection Activities: Operations for Minerals Other Than Oil, Gas, and Sulphur in the OCS; Proposed Collection; Comment Request

AGENCY: Bureau of Safety and Environmental Enforcement, Interior.

ACTION: 60-Day notice.

SUMMARY: To comply with the Paperwork Reduction Act of 1995 (PRA), BSEE is inviting comments on a collection of information that we will submit to the Office of Management and Budget (OMB) for review and approval. The information collection request (ICR) concerns a renewal to the paperwork requirements in the regulations under Operations in the Outer Continental Shelf for Minerals Other than Oil, Gas, and Sulphur.

DATES: You must submit comments by May 26, 2015.

ADDRESSES: You may submit comments by either of the following methods listed below.

• Electronically go to http://www.regulations.gov. In the Search box, enter BSEE-2015-0001 then click search. Follow the instructions to submit public comments and view all related materials. We will post all comments.

• Email cheryl.blundon@bsee.gov. Mail or hand-carry comments to the Department of the Interior; Bureau of Safety and Environmental Enforcement; Regulations and Standards Branch; ATTN: Cheryl Blundon; 381 Elden Street, HE3314; Herndon, Virginia 20170-4817. Please reference ICR 1014-0021 in your comment and include your name and return address.

FOR FURTHER INFORMATION CONTACT: Cheryl Blundon, Regulations and Standards Branch at (703) 787-1607 to request additional information about this ICR.

SUPPLEMENTARY INFORMATION: Title: 30 CFR part 282, Operations in the Outer Continental Shelf for Minerals Other than Oil, Gas, and Sulphur.

OMB Control Number: 1014-0021.

Abstract: The Outer Continental Shelf (OCS) Lands Act, as amended (43 U.S.C. 1334 and 43 U.S.C. 1337(k)), authorizes the Secretary of the Interior to implement regulations to grant leases of any mineral other than oil, gas, and sulphur to qualified parties. This regulation governs mining operations within the OCS and establishes a comprehensive leasing and regulatory program for such minerals. This regulation has been designed to: (1) Recognize the differences between the OCS activities associated with oil, gas, and sulphur discovery and development and those associated with the discovery and development of other minerals; (2) facilitate participation by States directly affected by OCS mining activities; (3) provide opportunities for consultation and coordination with other OCS users and uses; (4) balance development with environmental protection; (5) insure a fair return to the public; (6) preserve and maintain free enterprise competition; and (7) encourage the development of new technology.

The authorities and responsibilities described above are among those delegated to the Bureau of Safety and Environmental Enforcement (BSEE). Therefore, this ICR addresses the regulations at 30 CFR 282, Operations in the Outer Continental Shelf for Minerals Other than Oil, Gas, and Sulphur. It should be noted that there has been no activity in the OCS for minerals other than oil, gas and sulphur for many years and no information collected. However, because these are regulatory requirements, the potential exists for information to be collected; therefore, we are renewing this collection of information.

BSEE will use the information required by 30 CFR 282 to determine if lessees are complying with the regulations that implement the mining operations program for minerals other than oil, gas, and sulphur. Specifically, BSEE will use the information:

• To ensure that operations for the production of minerals other than oil, gas, and sulphur in the OCS are conducted in a manner that will result in orderly resource recovery, development, and the protection of the human, marine, and coastal environments.

• To ensure that adequate measures will be taken during operations to prevent waste, conserve the natural resources of the OCS, and to protect the environment, human life, and correlative rights.

• To determine if suspensions of activities are in the national interest, to facilitate proper development of a lease including reasonable time to develop a mine and construct its supporting facilities, and to allow for the construction or negotiation for use of transportation facilities.

• To identify and evaluate the cause(s) of a hazard(s) generating a suspension, the potential damage from a hazard(s) and the measures available to mitigate the potential for damage.

• For technical evaluations that provide a basis for BSEE to make informed decisions to approve, disapprove, or require modification of the proposed activities.

We protect proprietary information according to the Freedom of Information Act (5 U.S.C. 552) and DOI's implementing regulations (43 CFR 2), and §§ 282.5, 282.6, and 282.7. Responses are mandatory or are required to obtain or retain a benefit.

Frequency: On occasion and as a result of situations encountered depending upon the requirements.

Description of Respondents: Potential respondents comprise Federal oil, gas, or sulphur lessees and/or operators.

Estimated Reporting and Recordkeeping Hour Burden: The currently approved annual reporting burden for this collection is 56 hours and $100,000 non-hour cost burdens. In this submission, we are requesting the same hour and non-hour cost burdens. The following chart details the individual components and respective hour burden estimates of this ICR. In calculating the burdens, we assumed that respondents perform certain requirements in the normal course of their activities. We consider these to be usual and customary and took that into account in estimating the burden.

Citation 30 CFR 282 | Reporting or recordkeeping requirement | Hour burden | Average number of annual responses | Annual burden hours
| Non-hour cost burden
Subpart A—General
5 | Request non-disclosure of data and information | 10 | 1 request | 10
6 | Governor(s) of adjacent State(s) request for proprietary data, information, samples, etc., and disclosure agreement with BSEE | 1 | 1 submission | 1
7 | Governor of affected State requests negotiation to settle jurisdictional controversy, etc; enters into an agreement with BSEE | 1 | 1 request | 1
Subtotal | 3 responses | 12
Subpart B—Jurisdiction and Responsibilities of Director
11(d)(1) | Request consolidation/unitization of two or more leases or lease portions into a single mining unit | 1 | 1 request | 1
11(d)(4) | State requests different method of allocating production | 1 | 1 request | 1
12(f); 13(d); 28(c) | Request approval(s) of applicable applications and/or plans; including environmental information, monitoring program, and various requests for approval; submit modifications as appropriate | 20 | 1 request | 20
12(h) | Request departures from the operating requirements | Burden covered under 30 CFR 250, Subpart A, 1014-0022. |  | 0
13(b), (f)(2); 31 | Request suspension or temporary prohibition or production or operations; include all documentation—or any other information BSEE may require | 2 | 1 request | 2
13(d); 13(e)(2) | Submit a Delineation, Testing, or Mining Plan or revised Plan | BOEM requirement—covered under 30 CFR 582, 1010-0081.
13(e) | Submit site-specific study plan and results. | 8 | 1 study | 8
|  |  | 1 study × $100,000 = $100,000.
14 | Submit response copy of Form BSEE-1832 indicating date violations (INCs) corrected, etc | 2 | 1 response | 2
Subtotal | 6 responses | 34
| $100,000 non-hour cost burden.
Subpart C—Obligations and Responsibilities of Lessees
27(b) | Request use of new or alternative technologies, techniques, etc | 1 | 1 request | 1
27(c) | Notify BSEE of death or serious injury; fire, exploration, or other hazardous event, pollution etc.; submit report | 1 | 1 notification | 1
27(d)(2) | Request reimbursement for furnishing food, quarters, and transportation for BSEE representatives (no requests received in many years; minimal burden) | 2 | 1 request | 2
27(e) | Identify vessels, platforms, structures, etc. with signs | 1 | 1 sign | 1
27(f)(2) | Log all drill holes susceptible to logging; submit copies of logs to BSEE | 3 | 1 log | 3
27(h)(3), (4) | Mark equipment; record items lost overboard; notify BSEE | 1 | 1 notification | 1
27(k) | Enter weight or quantity and quality of each mineral produced | BOEM requirement—covered under 30 CFR 582, 1010-0081. |  | 0
28(d) | Demonstrate effectiveness procedure(s) for mitigating environmental impacts | 1 | 1 demonstration | 1
Subtotal | 7 responses | 10
Subpart E—Appeals
50 | File an appeal | Burden exempt under 5 CFR 1320.4(a)(2), (c). |  | 0
Total Burden | 16 responses | 56
| $100,000 non-hour cost burden.

Estimated Reporting and Recordkeeping Non-Hour Cost Burden: We have identified one non-hour cost burdens for this collection. Pursuant to § 282.13(e)(1), a site-specific study to determine and evaluate hazards that results in a suspension of operation would have a non-hour cost burden. Since this has not been done to date, we estimated that the cost of such a study for industry would be approximately $100,000 to comply with the requirement. We have not identified any other non-hour cost burdens associated with this collection of information.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “. . . to provide notice . . . and otherwise consult with members of the public and affected agencies concerning each proposed collection of information . . .”. Agencies must specifically solicit comments to: (a) Evaluate whether the collection is necessary or useful; (b) evaluate the accuracy of the burden of the proposed collection of information; (c) enhance the quality, usefulness, and clarity of the information to be collected; and (d) minimize the burden on the respondents, including the use of technology.

Agencies must also estimate the non-hour paperwork cost burdens to respondents or recordkeepers resulting from the collection of information. Therefore, if you have other than hour burden costs to generate, maintain, and disclose this information, you should comment and provide your total capital and startup cost components or annual operation, maintenance, and purchase of service components. For further information on this burden, refer to 5 CFR 1320.3(b)(1) and (2), or contact the Bureau representative listed previously in this notice.

We will summarize written responses to this notice and address them in our submission for OMB approval. As a result of your comments, we will make any necessary adjustments to the burden in our submission to OMB.

Public Comment Procedures: Before including your address, phone number, email address, or other personal identifying information in your comment, you should be aware that your entire comment—including your personal identifying information—may be made publicly available at any time. While you can ask us in your comment to withhold your personal identifying information from public review, we cannot guarantee that we will be able to do so.

Dated: March 20, 2015.
Robert W. Middleton,
Deputy Chief, Office of Offshore Regulatory Programs.

[FR Doc. 2015-06907 Filed 3-25-15; 8:45 am]

BILLING CODE 4310-VH-P